DEPARTMENT OF TRANSPORTATION

Federal Aviation Administration

14 CFR Part 39

[Docket No. FAA-2004-19449; Directorate Identifier 2004-NM-07-AD; Amendment 39-13951; AD 2005-02-06]

RIN 2120-AA64

Airworthiness Directives; McDonnell Douglas Model MD-11 and MD-11F Airplanes Equipped With Pratt & Whitney PW4000 Series Engines

AGENCY: Federal Aviation Administration (FAA), DOT.

ACTION: Final rule.

SUMMARY: The FAA is adopting a new airworthiness directive (AD) for certain McDonnell Douglas Model MD-11 and MD-11F airplanes equipped with Pratt & Whitney PW4000 series engines. This AD requires, for each engine, replacing, with a tube assembly, the existing hose assembly that connects the oil pressure transmitter to the main oil circuit. This AD is prompted by a report indicating that, for each engine, the existing hose assembly does not meet zero-flow fireproof capability requirements. We are issuing this AD to prevent, if there is an engine fire, failure of the oil pressure indicator and the low-oil pressure warning, which could result in an unannounced shutdown of that engine; and oil leakage, which may feed the engine fire.

DATES: This AD becomes effective March 7, 2005.

The incorporation by reference of certain publications listed in the AD is approved by the Director of the Federal Register as of March 7, 2005.

ADDRESSES: For service information identified in this AD, contact Boeing Commercial Airplanes, Long Beach Division, 3855 Lakewood Boulevard, Long Beach, California 90846, Attention: Data and Service Management, Dept. C1-L5A (D800-0024). You can examine this information at the National Archives and Records Administration (NARA). For information on the availability of this material at NARA, call (202) 741-6030, or go to: http://www.archives.gov/federal_register/code_of_federal_regulations/ibr_locations.html.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2004-19449; the directorate identifier for this docket is 2004-NM-07-AD.

FOR FURTHER INFORMATION CONTACT: Samuel Lee, Aerospace Engineer, Propulsion Branch, ANM-140L, FAA, Los Angeles Aircraft Certification Office, 3960 Paramount Boulevard, Lakewood, California 90712-4137; telephone (562) 627-5262; fax (562) 627-5210.

SUPPLEMENTARY INFORMATION: The FAA proposed to amend 14 CFR Part 39 with an AD for certain McDonnell Douglas Model MD-11 and MD-11F airplanes equipped with Pratt & Whitney PW4000 series engines. That action, published in the Federal Register on October 27, 2004 (69 FR 62629), proposed to require, for each engine, replacing, with a tube assembly, the existing hose assembly that connects the oil pressure transmitter to the main oil circuit.

Comments

We provided the public the opportunity to participate in the development of this AD. We have considered the comments that have been submitted on the proposed AD. The commenters support the proposed AD.

Conclusion

We have carefully reviewed the available data, including the comments that have been submitted, and determined that air safety and the public interest require adopting the AD as proposed.

Costs of Compliance

There are about 76 airplanes of the affected design in the worldwide fleet. The following table provides the estimated costs for U.S. operators to comply with this AD.

Estimated Costs
Action | Work hours | Average labor rate per hour | Parts | Cost per airplane | Number of U.S.- registered airplanes | Fleet cost
Replacement | 2 | $65 | No charge | $130 | 34 | $4,420

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-02-06 McDonnell Douglas: Amendment 39-13951. Docket No. FAA-2004-19449; Directorate Identifier 2004-NM-07-AD.

Effective Date

(a) This AD becomes effective March 7, 2005.

Affected ADs

(b) None.

Applicability

(c) This AD applies to McDonnell Douglas Model MD-11 and MD-11F airplanes, as listed in Boeing Alert Service Bulletin MD11-79A008, dated December 11, 2001; certificated in any category; equipped with Pratt & Whitney PW4000 series engines.

Unsafe Condition

(d) This AD was prompted by a report indicating that, for each engine, the existing hose assembly that connects the oil pressure transmitter to the main oil circuit does not meet zero-flow fireproof capability requirements. We are issuing this AD to prevent, if there is an engine fire, failure of the oil pressure indicator and the low-oil pressure warning, which could result in an unannounced shutdown of that engine; and oil leakage, which may feed the engine fire.

Compliance

(e) You are responsible for having the actions required by this AD performed within the compliance times specified, unless the actions have already been done.

Replacement of Hose Assemblies

(f) Within 18 months after the effective date of this AD: For each engine, replace the existing hose assembly, part number (P/N) 113286, that connects the oil pressure transmitter to the main oil circuit, with tube assembly P/N 221-5318-501. Do the replacement in accordance with the Accomplishment Instructions of Boeing Alert Service Bulletin MD11-79A008, dated December 11, 2001.

Note 1: Boeing Alert Service Bulletin MD11-79A008 refers to Pratt & Whitney Alert Service Bulletin PW4MD11 A79-9, dated October 25, 2001, as an additional source of service information for replacing the hose assemblies.

Alternative Methods of Compliance (AMOCs)

(g) The Manager, Los Angeles Aircraft Certification Office, FAA, has the authority to approve AMOCs for this AD, if requested in accordance with the procedures found in 14 CFR 39.19.

Material Incorporated by Reference

(h) You must use Boeing Alert Service Bulletin MD11-79A008, dated December 11, 2001, to perform the actions that are required by this AD, unless the AD specifies otherwise. The Director of the Federal Register approves the incorporation by reference of this document in accordance with 5 U.S.C. 552(a) and 1 CFR part 51. For copies of the service information, contact Boeing Commercial Airplanes, Long Beach Division, 3855 Lakewood Boulevard, Long Beach, California 90846, Attention: Data and Service Management, Dept. C1-L5A (D800-0024). For information on the availability of this material at the National Archives and Records Administration (NARA), call (202) 741-6030, or go to http://www.archives.gov/federal_register/code_of_federal_regulations/ibr_locations.html.

You may view the AD docket at the Docket Management Facility, U.S. Department of Transportation, 400 Seventh Street SW, room PL-401, Nassif Building, Washington, DC.

Issued in Renton, Washington, on January 18, 2005.
Ali Bahrami,
Manager, Transport Airplane Directorate, Aircraft Certification Service.

[FR Doc. 05-1516 Filed 1-28-05; 8:45 am]

BILLING CODE 4910-13-P